OFFICE OF SCIENCE AND TECHNOLOGY POLICY

Aeronautics Science and Technology Subcommittee; Committee on Technology; National Science and Technology Council

ACTION: Request for review and comment on the draft biennial update to the National Plan for Aeronautics Research and Development and Related Infrastructure.

Background: The Aeronautics Science and Technology Subcommittee (ASTS) of the National Science and Technology Council's (NSTC) Committee on Technology (COT) will post a draft of the biennial update to the National Plan for Aeronautics Research and Development and Related Infrastructure that is required by Executive Order (E.O.) 13419—National Aeronautics Research and Development—signed December 20, 2006. The biennial update draft document has been re-titled as the National Aeronautics Research and Development Plan (R&D Plan).

The draft R&D Plan continues to be guided by the National Aeronautics Research and Development Policy (Policy) that was prepared by the National Science and Technology Council and endorsed by E.O. 13419. Readers are advised that the national aeronautics R&D challenges, goals and objectives for the draft R&D Plan flow from the Principles detailed in the Policy (with the exception of Workforce and Aviation Security which are managed in different venues). For reference, E.O. 13419, the Policy, and the preceding National Plan for Aeronautics Research and Development and Related Infrastructure are available at: http://ostp.gov/nstc/aeroplans/.

Request for Review and Comment: E.O. 13419 and the National Aeronautics R&D Policy call for executive departments and agencies conducting aeronautics R&D to engage industry, academia, and other non-Federal stakeholders in support of government planning and performance of aeronautics R&D. The purpose of this posting is to obtain comments from individuals on the draft high-priority national aeronautics R&D challenges, goals and objectives contained in the draft R&D Plan that should be supported by the Federal Government.

Posting Date and Web Site Address: The draft biennial update of the R&D Plan will be posted on or about November 10, 2009 at: http://www.ostp.gov/nstc/aeroplans/.

Submission of Comments: A spreadsheet will be provided for submission of comments at: http://www.ostp.gov/nstc/aeroplans/. Comments must be returned on the spreadsheet in accordance with the guidance provided at: http://www.ostp.gov/nstc/aeroplans/. Readers are advised that comments provided after the deadline of November 17, 2009, or provided in a format other than on the prescribed spreadsheet may not be considered. Readers are reminded that comments regarding proprietary equipment, technologies, programs, and/or specific facilities may be considered as outside the scope of this request.

FOR FURTHER INFORMATION CONTACT: William Davis, National Science and Technology Council, Office of Science and Technology Policy, New Executive Office Building, Washington, DC 20502—telephone (202) 456-6012. Additional information is also available at the Office of Science and Technology Policy NSTC Web site at: http://www.ostp.gov/nstc/aeroplans/.

M. David Hodge,
Operations Manager, OSTP.

[FR Doc. E9-26465 Filed 11-2-09; 8:45 am]

BILLING CODE 3170-W9-P